SECURITIES AND EXCHANGE COMMISSION

[ File No. 500-1]

In the Matter of BioCoral, Inc., GC China Turbine Corp., Race World International, Inc., and Worldwide Biotech & Pharmaceutical Co.; Order of Suspension of Trading

June 18, 2015.

It appears to the Securities and Exchange Commission that there is a lack of current and accurate information concerning the securities of BioCoral, Inc. (CIK No. 919605), a Delaware corporation with its principal place of business listed as La Garenne-Colombes, France, with stock quoted on OTC Link (previously, “Pink Sheets”) operated by OTC Markets Group, Inc. (“OTC Link”) under the ticker symbol BCRA, because it has not filed any periodic reports since the period ended September 30, 2012. On February 27, 2014, the Division of Corporation Finance sent BioCoral a delinquency letter requesting compliance with its periodic filing obligations, but the letter was returned because of BioCoral's failure to maintain a valid address on file with the Commission.

It appears to the Securities and Exchange Commission that there is a lack of current and accurate information concerning the securities of GC China Turbine Corp. (CIK No. 1380528), a revoked Nevada corporation with its principal place of business listed as Wuhan, China, with stock quoted on OTC Link under the ticker symbol GCHT, because it has not filed any periodic reports since the period ended September 30, 2011. On or about October 15, 2013, GC China Turbine received a delinquency letter sent by the Division of Corporation Finance requesting compliance with their periodic filing obligations.

It appears to the Securities and Exchange Commission that there is a lack of current and accurate information concerning the securities of Race World International, Inc. (CIK No. 1415736), a revoked Nevada corporation with its principal place of business listed as Weifang, China, with stock quoted on OTC Link under the ticker symbol RCWR, because it has not filed any periodic reports since the period ended June 30, 2011. On July 22, 2013, Race World International received a delinquency letter sent by the Division of Corporation Finance requesting compliance with their periodic filing obligations.

It appears to the Securities and Exchange Commission that there is a lack of current and accurate information concerning the securities of Worldwide Biotech & Pharmaceutical Co. (CIK No. 95302), a forfeited Delaware corporation with its principal place of business listed as Xi'an, China, with stock quoted on OTC Link under the ticker symbol WWBP, because it has not filed any periodic reports since the period ended March 31, 2011. On May 10, 2012, the Division of Corporation Finance sent Worldwide Biotech a delinquency letter requesting compliance with their periodic filing obligations, but the letter was returned because of Worldwide Biotech's failure to maintain a valid address on file with the Commission.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on June 18, 2015, through 11:59 p.m. EDT on July 1, 2015.

By the Commission.
Jill M. Peterson,
Assistant Secretary.

[FR Doc. 2015-15374 Filed 6-18-15; 4:15 pm]

BILLING CODE 8011-01-P